DEPARTMENT OF AGRICULTURE

Food Safety and Inspection Service

[Docket No. FSIS-2010-0043]

Codex Alimentarius Commission: Meeting of the Codex Committee on Methods of Analysis and Sampling

AGENCY: Office of the Under Secretary for Food Safety, USDA.

ACTION: Notice of public meeting and request for comments.

SUMMARY: The Office of the Under Secretary for Food Safety, U.S. Department of Agriculture (USDA), and the Food and Drug Administration (FDA), Center for Food Safety and Applied Nutrition (CFSAN), are sponsoring a public meeting on February 9, 2011. The objective of the public meeting is to provide information and receive public comments on agenda items and draft United States (U.S.) positions that will be discussed at the 32nd session of the Codex Committee on Methods of Analysis and Sampling (CCMAS) of the Codex Alimentarius Commission (Codex), which will be held in Budapest, Hungary March 7-11, 2011. The Under Secretary for Food Safety and the FDA recognize the importance of providing interested parties the opportunity to obtain background information on the 32nd session of the CCMAS and to address items on the agenda.

DATES: The public meeting is scheduled for February 9, 2011, from 11 a.m. to 12:30 p.m.

ADDRESSES: The public meeting will be held at FDA, Harvey Wiley Building, Room 2B047, 5100 Paint Branch Parkway, College Park, MD 20740. Documents related to the 32nd session of the CCMAS will be accessible via the World Wide Web at the following address: http://www.codexalimentarius.net/current.asp.

Gregory Diachenko, U.S. Delegate to the 32nd session of the CCMAS, and the FDA, invites U.S. interested parties to submit their comments electronically to the following e-mail address: Gregory.Diachenko@fda.hhs.gov.

Call In Number:

If you wish to participate in the public meeting for the 32nd session of the CCMAS by conference call, please use the following call in number and participant code listed below.

Call in Number: 1-866-859-5767.

Participant code: 2225276.

FOR FURTHER INFORMATION ABOUT THE 32nd SESSION OF THE CCMAS CONTACT: Gregory Diachenko, PhD, Director, Division of Product Manufacture and Use Office of Premarket Approval, CFSAN, FDA, Harvey W. Wiley Federal Building, 5100 Paint Branch Parkway, College Park, MD 20740-3835, Phone: (301) 436-2387, Fax: (301) 436-2364, E-mail: Gregory.Diachenko@fda.hhs.gov.

FOR FURTHER INFORMATION ABOUT THE PUBLIC MEETING CONTACT: Marie Maratos, U.S. Codex Office, 1400 Independence Avenue, SW., Room 4861, Washington, DC 20250. Phone: (202) 690-4795, Fax: (202) 412-7901, E-mail: Marie.Maratos@fsis.usda.gov.

SUPPLEMENTARY INFORMATION:

Background

Codex was established in 1963 by two United Nations organizations, the Food and Agriculture Organization and the World Health Organization. Through adoption of food standards, codes of practice, and other guidelines developed by its committees, and by promoting their adoption and implementation by governments, Codex seeks to protect the health of consumers and ensure that fair practices are used in trade.

The CCMAS is responsible for defining the criteria appropriate to Codex Methods of Analysis and Sampling; serving as a coordinating body for Codex with other international groups working in methods of analysis and sampling and quality assurance systems for laboratories; specifying the basis of final recommendations submitted to it by other bodies; considering, amending, and endorsing, methods of analysis and sampling proposed by Codex (Commodity) Committees, except that methods of analysis and sampling for residues of pesticides or veterinary drugs in food, the assessment of microbiological quality and safety in food, and the assessment of specifications for food additives, do not fall within the terms of reference of this Committee; elaborating sampling plans and procedures; considering specific sampling and analysis problems submitted to it by Codex or any of its Committees; and defining procedures, protocols, guidelines or related texts for the assessment of food laboratory proficiency, as well as quality assurance systems for laboratories.

The Committee is hosted by Hungary.

Issues To Be Discussed at the Public Meeting

The following items on the agenda for the 32nd session of the CCMAS will be discussed during the public meeting:

• Matters Referred to the Committee by the Codex and Other Codex Committees

• Draft Revised Guidelines on Measurement Uncertainty

• Endorsement of Methods of Analysis Provisions in Codex Standards

• Guidance on Procedures for Conformity Assessment and Resolution of Disputes

• Use of Proprietary Methods in Codex Standards

• Report of an Inter-Agency Meeting on Methods of Analysis

Each issue listed will be fully described in documents distributed, or to be distributed, by the Secretariat prior to the meeting. Members of the public may access copies of these documents (see ADDRESSES).

Public Meeting

At the February 9, 2011, public meeting, draft U.S. positions on the agenda items will be described and discussed, and attendees will have the opportunity to pose questions and offer comments. Written comments may be offered at the meeting or sent to the U.S. Delegate for the 32nd session of the CCMAS, Greg Diachenko (see ADDRESSES). Written comments should state that they relate to activities of the 32nd session of the CCMAS.

USDA Nondiscrimination Statement

USDA prohibits discrimination in all its programs and activities on the basis of race, color, national origin, gender, religion, age, disability, political beliefs, sexual orientation, and marital or family status. (Not all prohibited bases apply to all programs.)

Persons with disabilities who require alternative means for communication of program information (Braille, large print, audiotape, etc.) should contact USDA's Target Center at 202-720-2600 (voice and TTY).

To file a written complaint of discrimination, write USDA, Office of the Assistant Secretary for Civil Rights, 1400 Independence Avenue, SW., Washington, DC 20250-9410 or call 202-720-5964 (voice and TTY). USDA is an equal opportunity provider and employer.

Additional Public Notification

Public awareness of all segments of rulemaking and policy development is important. Consequently, in an effort to ensure that the public and in particular minorities, women, and persons with disabilities, are aware of this notice, FSIS will announce it on-line through the FSIS Web page located at http://www.fsis.usda.gov/regulations_&_policies/Federal_Register_Notices/index.asp.

FSIS also will make copies of this Federal Register publication available through the FSIS Constituent Update, which is used to provide information regarding FSIS policies, procedures, regulations, Federal Register notices, FSIS public meetings, and other types of information that could affect or would be of interest to our constituents and stakeholders. The Update is communicated via Listserv, a free e-mail subscription service consisting of industry, trade, and farm groups, consumer interest groups, allied health professionals, scientific professionals, and other individuals who have requested to be included. The Update also is available on the FSIS Web page. Through Listserv and the Web page, FSIS is able to provide information to a much broader, more diverse audience. In addition, FSIS offers an e-mail subscription service which provides automatic and customized access to selected food safety news and information. This service is available at http://www.fsis.usda.gov/News_&_Events/Email_Subscription/. Options range from recalls, export information, regulations, directives, and notices. Customers can add or delete subscriptions themselves, and have the option to password protect their accounts.

Done at Washington, DC, on January 12, 2011.
Karen Stuck,
U.S. Manager for Codex Alimentarius.

[FR Doc. 2011-1147 Filed 1-19-11; 8:45 am]

BILLING CODE 3410-DM-P